FEDERAL COMMUNICATIONS COMMISSION

Notice of Public Information Collection(s) Being Submitted for Review to the Office of Management and Budget

June 16, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 5, 2005. If you anticipate that you will be submitting PRA comments, but find it difficult to do so within the period of time allowed by this notice, you should advise the contact listed below as soon as possible.

ADDRESSES: Direct all Paperwork Reduction Act (PRA) comments to Leslie F. Smith, Federal Communications Commission, Room 1-A804, 445 12th Street, SW., DC 20554 or via the Internet to Leslie.Smith@fcc.gov. If you would like to obtain or view a copy of this new or revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-0854.

Title: Truth-in-Billing Format, CC Docket No. 98-170.

Form Number: N/A.

Type of Review: Revision of a currently approved collection.

Respondents: Business or other for-profit entities.

Number of Respondents: 5,309; 34,866 responses.

Estimated Time per Response: 5 to 465 hours.

Frequency of Response: On occasion reporting requirement; third party disclosure.

Total Annual Burden: 4,636,942 hours.

Total Annual Cost: $15,418,200.

Needs and Uses: On March 18, 2005, the Commission released the Second Report and Order, Declaratory Ruling, and Second Further Notice of Proposed Rulemaking, In the Matter of Truth-in-Billing and Billing Format; National Association of State Utility Consumer Advocates' Petition for Declaratory Ruling Regarding Truth-in-Billing, CC Docket No. 98-170, CG Docket No. 04-208, FCC 05-55, (2005 Second Report and Order, Declaratory Ruling, and Further Notice of Proposed Rulemaking). In the 2005 Second Report and Order, and Declaratory Ruling the Commission determined that Commercial Mobile Radio Service (CMRS) providers no longer should be exempted from 47 CFR 64.2401(b), which requires billing descriptions to be brief, clear, non-misleading and in plain language. In addition, in its 2005 Second Further Notice of Proposed Rulemaking, the Commission proposed and sought comment on measures to enhance the ability of consumers to make informed choices among competitive telecommunications providers.

The information collection requirements include the following: (1) Those requirements contained in the Truth-in-Billing Format rules, which were previously approved by OMB on November 30, 2004; (2) the adjustments pursuant to the new Census data; (3) changes to the existing rule § 64.2400 (b) pursuant to the 2005 Second Report and Order; and (4) the proposed requirements contained in the 2005 Second Further Notice of Proposed Rulemaking.

Federal Communications Commission.
Marlene H. Dortch,
Secretary.

[FR Doc. 05-13035 Filed 7-5-05; 8:45 am]

BILLING CODE 6712-01-P